DEPARTMENT OF JUSTICE

Office of Justice Programs

Agency Information Collection Activities: Proposed Collection; Comments Requested

ACTION: 60-day notice of information collection under review: National Computer Security Survey (NCSS).

The Department of Justice (DOJ), Office of Justice Programs (OJP), has submitted the following information collection request to the Office of Management and Budget (OMB) for review and approval in accordance with the Paperwork Reduction Act of 1995. The proposed information collection is published to obtain comments from the public and affected agencies. Comments are encouraged and will be accepted for “sixty days” until June 13, 2005. This process is conducted in accordance with 5 CFR 1320.10.

If you have comments especially on the estimated public burden or associated response time, suggestions, or need a copy of the proposed information collection instrument with instructions or additional information, please contact Ramona Rantala, DOJ, OJP, Bureau of Justice Statistics, 810 Seventh Street, NW., Washington, DC 20531.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: This is a New Information Collection.

(2) Title of the Form/Collection: National Computer Security Survey.

(3) Agency form number, if any, and the applicable component of the Department of Justice sponsoring the collection: Form Number: NCSS-1, NCSS-1s, and NCSS-1c. Bureau of Justice Statistics, Office of Justice Programs, Department of Justice.

(4) Affected public who will be asked or required to respond, as well as a brief abstract: Primary: Businesses or other for-profit organizations. Other: Not-for-profit institutions. The National Computer Security Survey collects information on the nature and prevalence of computer crime and resulting losses experienced by businesses nationwide. It also collects other information including types of computer security technology and practices used by businesses, routes used to access systems, whether incidents were reported to authorities, reasons for not reporting, and types of offenders. 42 U.S.C. 3711, et seq. authorizes the Department of Justice to collect and analyze statistical information concerning crime, juvenile delinquency, and the operation of the criminal justice system and related aspects of the civil justice system and to support the development of information and statistical systems at the Federal, State, and local levels.

(5) An estimate of the total number of respondents and the amount of time estimated for an average respondent to respond: It is estimated that 36,000 respondents will each complete a 1.6-hour data collection form.

(6) An estimate of the total public burden (in hours) associated with the collection: There are an estimated 57,775 total annual burden hours associated with this collection.

If additional information is required contact: Brenda E. Dyer, Department Clearance Officer, United States Department of Justice, Justice Management Division, Policy and Planning Staff, Patrick Henry Building, Suite 1600, 601 D Street NW., Washington, DC 20530.

Brenda E. Dyer,
Department Clearance Officer, Department of Justice.

[FR Doc. 05-7392 Filed 4-12-05; 8:45 am]

BILLING CODE 4410-18-P